DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from June 15, to June 19, 2009.

For further information, please contact Edson Beall via: United States Postal Service mail, at the National Register of Historic Places, 2280 National Park Service, 1849 C St., NW., Washington, DC 20240; in person (by appointment), 1201 Eye St., NW., 8th floor, Washington, DC 20005; by fax, 202-371-2229; by phone, 202-354-2255; or by e-mail, Edson_Beall@nps.gov.

Dated: August 11, 2009.
J. Paul Loether,
Chief, National Register of Historic Places/National Historic Landmarks Program.

KEY: State, County, Property Name, Address/Boundary, City, Vicinity, Reference Number, Action, Date, Multiple Name

Arkansas, Washington County, Butterfield Overland Mail Route Fayetteville Segments Historic District, W. of AR 265 in Lake Fayetteville Park, Fayetteville, 09000456, LISTED, 6/18/09

Connecticut, New Haven County, Christ Church New Haven, 70 Broadway, New Haven, 09000420, LISTED, 6/19/09

Indiana, Boone County, Traders Point Hunt Rural Historic District, Roughly bounded by IN 334, I-865, Old Hunt Club Rd. & CR 850 E., Zionsville vicinity, 09000421, LISTED, 6/17/09 (Eagle Township and Pike Township, Indiana MPS)

Indiana, Clinton County, South Frankfort Historic District, Roughly between Walnut St., Prairie Creek, Meredith and Columbia Sts., Frankfort, 09000422, LISTED, 6/17/09

Indiana, Franklin County, Turrell, Salmon, Farmstead, 3051 Snow Hill Rd., West Harrison vicinity, 09000423, LISTED, 6/17/09

Indiana, Hancock County, Lincoln Park School, 600 W. N. St., Greenfield, 09000424, LISTED, 6/17/09 (Indiana's Public Common and High Schools MPS)

Indiana, Hendricks County, Adams, Ora, House, 301-303 E. Main St., Danville, 09000425, LISTED, 6/17/09

Indiana, Huntington County, Chenoweth-Coulter Farm, 7067 S. Etna Rd., LaFontaine vicinity, 09000426, LISTED, 6/17/09

Indiana, Lake County, American Sheet and Tin Mill Apartment Building, 633 W. 4th Ave., Gary, 09000427, LISTED, 6/17/09 (Concrete in Steel City: The Edison Concept Houses of Gary Indiana MS)

Indiana, Lake County, Jackson-Monroe Terraces Historic District, 404-423 Jackson St. and 408-426 Monroe St., Gary, 09000428, LISTED, 6/17/09 (Concrete in Steel City: The Edison Concept Houses of Gary Indiana MS)

Indiana, Lake County, Monroe Terrace Historic District, 304-318 Monroe St., Gary, 09000429, LISTED, 6/17/09 (Concrete in Steel City: The Edison Concept Houses of Gary Indiana MS)

Indiana, Lake County, Polk Street Terraces Historic District, 404-422 and 437-455 Polk St., Gary, 09000430, LISTED, 6/17/09 (Concrete in Steel City: The Edison Concept Houses of Gary Indiana MS)

Indiana, Marion County, Gibson Company Building, 433-447 N. Capitol Ave., Indianapolis, 09000431, LISTED, 6/17/09

Indiana, Marion County, HCS Motor Car Company, 1402 N. Capitol Ave., Indianapolis, 09000432, LISTED, 6/17/09

Indiana, Marion County, Traders Point Eagle Creek Rural Historic District, Roughly between I-865, I-465 and Lafayette Rd., Indianapolis vicinity, 09000433, LISTED, 6/17/09 (Eagle Township and Pike Township, Indiana MPS)

Indiana, Switzerland County, Switzerland County Courthouse, 212 W. Main St., Vevay, 09000435, LISTED, 6/17/09

Kansas, Sedgwick County, Broadview Hotel, 400 W. Douglas Ave., Wichita, 09000460, LISTED, 6/19/09

Kansas, Sedgwick County, McLean, Elizabeth, House, 2359 N. McLean Blvd., Wichita, 09000461, LISTED, 6/19/09 (Residential Resources of Wichita, Sedgwick County, Kansas 1870-1957)

Massachusetts, Essex County, Merrimack Associates Building, 25 Locust St., Haverhill, 09000436, LISTED, 6/17/09

Massachusetts, Plymouth County, South Middleborough Historic District, Locust, Spruce, and Wareham Sts., Middleborough, 09000438, LISTED, 6/19/09

Missouri, Cape Girardeau County, Vasterling, Julius, Building, 633-637 Broadway, Cape Girardeau, 09000439, LISTED, 6/17/09 (Cape Girardeau, Missouri MPS)

Missouri, St. Louis Independent City, Liggett & Myers Historic District, Roughly bounded by Vandeventer, Park, Thurman and Lafayette Aves., St. Louis, 09000441, LISTED, 6/18/09

Missouri, St. Louis Independent City, Tiffany Neighborhood Historic District (Boundary Decrease), Roughly bounded by 39th St., Lafayette Ave., Vandeventer Ave. and Folsom Ave., St. Louis (Independent City), 05001120, LISTED, 6/18/09

Ohio, Franklin County, Born Capital Brewery Bottling Works, 570 S. Front St., Columbus, 09000442, LISTED, 6/18/09

Ohio, Hamilton County, Hotel Metropole, 609 Walnut St., Cincinnati, 09000443, LISTED, 6/18/09

Ohio, Lawrence County, Selby Shoe Company Building, 1603 S. 3rd St., Ironton, 09000444, LISTED, 6/18/09

South Dakota, Davison County, Hill, W.S., House, 520 E. 6th Ave., Mitchell, 09000445, LISTED, 6/19/09

South Dakota, Lincoln County, Hudson Boy Scout Cabin, 416 Wheelock, Hudson, 09000448, LISTED, 6/18/09

Texas, El Paso County, Mesa Pump Plant, 4901 Fred Wilson Ave., El Paso, 09000450, LISTED, 6/19/09

Texas, Fayette County, Sengelmann Hall and City Meat Market Building, 527 and 529-533 N. Main St., Schulenburg, 09000451, LISTED, 6/18/09

Virginia, Charlottesville Independent City, Fifeville and Tonsler Neighborhoods Historic District, Bounded by Cherry Ave., to the S., the railway to the N., 4th St., SW to the E., and Spring St., to the W., Charlottesville, 09000452, LISTED, 6/18/09

Wisconsin, Buffalo County, Harmonia Hall, S2119 Co. Hwy. E., Waumandee, 09000453, LISTED, 6/18/09

Wyoming, Natrona County, Odd Fellows Building, 136 S. Wolcott St., Casper, 09000455, LISTED, 6/18/09

Wyoming, Sublette County, Sommers Ranch Headquarters Historic District, 734 Co. Rd. 23-110, Pinedale, 09000454, LISTED, 6/18/09

[FR Doc. E9-19533 Filed 8-13-09; 8:45 am]

BILLING CODE P